DEPARTMENT OF TRANSPORTATION

Pipeline and Hazardous Materials Safety Administration

[Docket No. PHMSA-06-25734; Notice 2]

Pipeline Safety: Grant of Waiver; Freeport LNG

AGENCY: Pipeline and Hazardous Materials Safety Administration (PHMSA); U.S. Department of Transportation

ACTION: Grant of Waiver; Freeport LNG.

SUMMARY: Freeport LNG (FLNG) requested a waiver of compliance from the Federal pipeline safety regulation that requires liquefied natural gas (LNG) facilities constructed after March 31, 2000 to comply with the National Fire Protection Association's Standard 59A (NFPA 59A), 2001 Edition. The waiver specifically requested permission to use ultrasonic examination as an acceptable alternative non-destructive testing method for welds on LNG tanks.

SUPPLEMENTARY INFORMATION:

Background

FLNG requested a waiver from compliance of the Federal pipeline safety requirements at 49 CFR 193.2301 for its facility at Quintana Terminal, Texas. This regulation requires each LNG facility constructed after March 31, 2000 to comply with 49 CFR part 193 and NFPA Standard 59A, 2001 Edition. NFPA Standard 59A, 2001 Edition requires that welded containers designed for not more than 15 pounds per square inch gauge comply with the Eighth Edition, 1990, of American Petroleum Institute Standard 620 (API 620), “Design and Construction of Large, Welded, Low-Pressure Storage Tanks (Appendix Q).” The Eighth Edition of API 620 requires inspection according to Appendix Q which calls for a full radiographic examination of all vertical and horizontal butt welds associated with the container.

FLNG proposes to use the Tenth Edition, 2002, Addendum 1 of the 2004 edition of API 620 at its Quintana Terminal LNG facility. The Tenth Edition allows ultrasonic examination as well as radiography as an acceptable alternative non-destructive testing method. FLNG proposes to use ultrasonic examination, which consists of full semi-automated and manual ultrasonic examination using shear wave probes. The examination will also consist of a volumetric ultrasonic examination using a combination of creep wave probes and focused angled longitudinal wave probes. To allow ultrasonic examination in accordance with the most recent NFPA Standard 59A, 2006 Edition, a waiver is required.

PHMSA considered FLNG's waiver request and published a notice in the Federal Register inviting interested persons to comment on whether a waiver should be granted (71 FR 56583; September 27, 2006). No comments were received.

The NFPA issued a Tentative Interim Amendment to NFPA Standard 59A, 2006 Edition, effective February 14, 2006 (59A TIA06). The amendment incorporates API 620, Tenth Edition, 2002, Addendum 1, 2004. The Tenth Edition adds ultrasonic examination as an acceptable non-destructive testing method of examination for welds. The proposed wording of the Tenth Edition, Addendum 1, 2004 of API 620 deletes “radiographic” inspection and replaces it with “complete” examination and defines “complete” examination as radiographic or ultrasonic examination.

Decision: PHMSA finds that the use of ultrasonic examination in accordance with NFPA Standard 59A, 2006 Edition and 59A TIA06 is not inconsistent with pipeline safety and achieves an equivalent level of safety. Therefore, FLNG's request for waiver of compliance with § 193.2301 is granted, subject to the following conditions: (1) Ultrasonic examinations of welds on metal containers shall comply with section 7.3.1.2 of NFPA Standard 59A, 2006 Edition and 59A TIA06; (2) the owner/operator shall retain all ultrasonic examination records for the life of the facility and these records shall be retained in a manner so they may not be altered; and (3) the interval for verifying the examination of welds against a calibration standard shall be eight hours or less. If the ultrasonic equipment is found to be out of calibration, all previous weld examinations determined by the operator shall be reexamined by ultrasonic equipment within a week.

Issued in Washington, DC on April 2, 2007.
Jeffrey D. Wiese,
Acting Associate Administrator for Pipeline Safety.

[FR Doc. 07-1705 Filed 4-2-07; 4:52 pm]

BILLING CODE 4910-60-P